DEPARTMENT OF THE INTERIOR

Bureau of Land Management

[AK-933-1430-ET; AA-82862, A-053428]

Public Land Order No. 7531; Withdrawal of Public Land at King Salmon; Partial Revocation of Air Navigation Site No. 169, as Amended; Alaska

AGENCY: Bureau of Land Management, Interior.

ACTION: Public Land Order.

SUMMARY: This order withdraws approximately 1.25 acres of public land from surface entry and mining but not from mineral leasing for a period of 20 years for the United States Air Force to protect the King Salmon Environmental Remediation Project. This action also revokes a Secretarial Order insofar as it affects the same 1.25 acres of public land withdrawn for use by the Federal Aviation Administration as part of Air Navigation Site No. 169.

EFFECTIVE DATE: August 6, 2002.

FOR FURTHER INFORMATION CONTACT: Robbie J. Havens, Bureau of Land Management, Alaska State Office, 222 W. 7th Avenue, No. 13, Anchorage, Alaska 99513-7599, 907-271-5477.

SUPPLEMENTARY INFORMATION: By virtue of the authority vested in the Secretary of the Interior by Section 204 of the Federal Land Policy and Management Act of 1976, 43 U.S.C. 1714 (1994), it is ordered as follows:

1. Subject to valid existing rights, the following described public land is hereby withdrawn from settlement, sale, location, or entry under the public land laws, including the United States mining laws, 30 U.S.C. ch 2 (2000), but not from leasing under the mineral leasing laws, for the United States Air Force to protect the King Salmon Remediation Project (AA-82862):

Seward Meridian

T. 17 S., R. 45 W.,

Sec. 15, N½NE¼SW¼SW¼SE¼.

The area described contains approximately 1.25 acres.

2. The Secretarial Order dated October 15, 1941, as amended, which withdrew public land for Air Navigation Site No. 169 (A-053428), is hereby revoked insofar as it affects the land described in Paragraph 1 containing approximately 1.25 acres.

3. The withdrawal made by this order does not alter the applicability of those public land laws governing the use of the lands under lease, license, or permit, or governing the disposal of its mineral or vegetative resources other than under the mining laws.

4. This withdrawal will expire 20 years from the effective date of this order unless, as a review conducted before the expiration date pursuant to Section 204(f) of the Federal Land Policy and Management Act of 1976, 43 U.S.C. 1714(f) (1994), the Secretary determines that the withdrawal shall be extended.

Dated: July 18, 2002.
Rebecca W. Watson,
Assistant Secretary—Land and Minerals Management.

[FR Doc. 02-19784 Filed 8-5-02; 8:45 am]

BILLING CODE 4310-JA-P